DEPARTMENT OF HEALTH AND HUMAN SERVICES

Centers for Medicare & Medicaid Services

42 CFR Parts 412, 482, 485, and 489

[CMS-1599 & 1455-CN2]

RINs 0938-AR53 and 0938-AR73

Medicare Program; Hospital Inpatient Prospective Payment Systems for Acute Care Hospitals and the Long-Term Care Hospital Prospective Payment System and Fiscal Year 2014 Rates; Quality Reporting Requirements for Specific Providers; Hospital Conditions of Participation; Payment Policies Related to Patient Status; Corrections

AGENCY: Centers for Medicare & Medicaid Services (CMS), HHS.

ACTION: Final rule; correction.

SUMMARY: This document corrects technical and typographical errors in the final rules that appeared in the August 19, 2013 Federal Register titled “Medicare Program; Hospital Inpatient Prospective Payment Systems for Acute Care Hospitals and the Long-Term Care Hospital Prospective Payment System and Fiscal Year 2014 Rates; Quality Reporting Requirements for Specific Providers; Hospital Conditions of Participation; Payment Policies Related to Patient Status.”

DATES: This correcting document is effective October 1, 2013.

FOR FURTHER INFORMATION CONTACT: Tzvi Hefter, (410) 786-4487.

SUPPLEMENTARY INFORMATION:

I. Background

In FR Doc. 2013-18956, which appeared in the August 19, 2013 Federal Register (78 FR 50496), there were a number of technical errors that are identified and corrected in the Correction of Errors section. The provisions in this correction document are effective as if they had been included in the document that appeared in the August 19, 2013 Federal Register. Accordingly, the corrections are effective October 1, 2013.

II. Summary of Errors

A. Errors in the Preamble

On page 50546, in our discussion of the four new procedure codes, we inadvertently made a typographical error in the effective date.

On page 50591, we made a typographical error in the number of hospitals approved for reclassification in FY 2013.

On pages 50630, 50631, 50634, 50641, and 50642, in our discussion of disproportionate share hospitals (DSHs), we made inadvertent errors in the: (1) Actuarial estimate of the aggregate amount of Medicare DSH payments for FY 2014 without regard to section 1886(r)(1) of the Social Security Act (the Act); (2) actuarial estimate of the aggregate amount of empirically justified Medicare DSH payments for FY 2014 with the application of section 1886(r)(1) of the Act; (3) calculation of Factor 1; (4) determination of the amount available for uncompensated care payments for 2014; and (5) number of hospitals that we projected to be eligible to receive a Medicare DSH payment in FY 2014.

On page 50678, in our discussion of Hospital Value-Based Purchasing (HVBP) Program FY 2014 payment details, we made an inadvertent error in the slope of the linear exchange function that was used to calculate the updated proxy value-based incentive payment adjustment factors in Table 16A.

On page 50772, in our discussion of the LTCH PPS 25-percent threshold payment adjustment, we inadvertently misstated the time period for the application of the policy.

On page 50859, in our discussion of LTCH CARE Data, we inadvertently misstated commenter's statement.

On page 50867, in our discussion of the LTCH Quality Reporting (LTCHQR) Program, we made a technical error in describing a type of claim-based measure.

On pages 50854, 50855, 50856, 50862, 50864, 50866, and 50876 in our discussion of the LTCHQR Program, we made grammatical errors.

On pages 50855, 50858, 50859, 50860, 50861, 50871, 50876, 50879, 50880, 50881, and 50882 in our discussion regarding the LTCHQR Program measures, we made typographical and technical errors in referencing an NQF-endorsed measure name.

B. Summary of Errors in and Corrections to Files and Tables Posted on the CMS Web Site

1. Errors and Corrections to the Medicare DSH Files

Supplemental Medicare DSH File.—FY 2014 Uncompensated Care Payment Factors. For the FY 2014 IPPS/LTCH PPS Final Rule, we published a list of hospitals that we identified to be subsection (d) hospitals and subsection (d) Puerto Rico hospitals eligible to receive empirically justified Medicare DSH payment adjustments and uncompensated care payments for FY 2014. As stated in the FY 2014 IPPS/LTCH PPS final rule (78 FR 50642), we allowed the public an additional period after the issuance of the final rule to contact us with comments on whether any of the hospitals should be removed from the list or if any hospitals should be added to the list, based on their subsection (d) status. Based on the comments received during this additional period, we are making several corrections to the Supplemental Medicare DSH File. First, in calculating Factor 3 of the uncompensated care payment methodology, we inadvertently excluded the FY 2011 SSI days and the Medicaid days from the most recently available 2011 or 2010 cost report for certain providers that were projected to receive Medicare DSH in FY 2014.

These providers had submitted their 2010 and/or 2011 Medicare hospital cost reports to their Medicare contractor prior to the March 2013 update of HCRIS but the Medicare contactor had been unable to upload either the 2010 or 2011 Medicare hospital cost reports in a timely manner to be included in the March 2013 update of HCRIS. As a result, the Medicaid days for these providers were inadvertently excluded from the calculation of Factor 3. In addition, due to a programming error, these providers had SSI days reported for their FY 2011 SSI ratios that were inadvertently excluded in the calculation of their Factor 3. The Medicaid days and SSI days for these providers were excluded from the numerator of Factor 3 for the affected providers and from the denominator of Factor 3 for all providers. Second, as a result of the exclusion of these Medicare hospital cost reports from the March 2013 update of HCRIS, the Medicare DSH payments for these providers were not included in the Office of the Actuary's Medicare DSH estimates for the calculation of Factor 1. Third, seven providers listed as eligible to receive Medicare DSH payments are no longer subsection(d) hospitals and have been removed from the list of hospitals eligible to receive empirically justified Medicare DSH payment adjustments and uncompensated care payments for FY 2014. We are changing the number of hospitals that are eligible to receive empirically justified Medicare DSH payment adjustments and uncompensated care payments for FY 2014. In order to correct these errors, we have revised Factor 3 for all hospitals to incorporate the changes to the data. Specifically, to account for the removal of hospitals that are not subsection (d) hospitals and the addition of data for the two hospitals whose data was inadvertently excluded from the calculation of Factor 3, we have recalculated the denominator of Factor 3 for all hospitals. In addition, we have also recalculated the numerator of Factor 3 for the hospitals that had data inadvertently excluded. We have also revised Factor 1 to include in our estimates the Medicare DSH payments for the providers whose Medicare hospital cost report data was not included in the March 2013 update of HCRIS.

2. Errors in and Corrections to the IPPS Tables

We are correcting the errors in the following IPPS tables that are listed on page 51002 of FY 2014 IPPS/LTCH PPS final rule and are available on the Internet on the CMS Web site at http://www.cms.gov/Medicare/Medicare-Fee-for-Service-Payment/AcuteInpatientPPS/FY-2014-IPPS-Proposed-Rule-Home-Page.html:

In Table 2.—Acute Care Hospitals Case-Mix Indexes for Discharges Occurring in Federal Fiscal Year 2012; Hospital Wage Indexes for Federal Fiscal Year 2014; Hospital Average Hourly Wages for Federal Fiscal Years 2012 (2008 Wage Data), 2013 (2009 Wage Data), and 2014 (2010 Wage Data); and 3-Year Average of Hospital Average Hourly Wages. We determined that we used incorrect wages and hours for provider 040029 located in core-based statistical area (CBSA) 30780. Therefore, we are correcting the FY 2014 wage indexes for the following providers in, or reclassified into, CBSA 30780: 040007, 040014, 040016, 040029, 040036, 040041, 040071, 040074, 040084, 040114, 040119, 040134, 040137, and 040147. In addition, for provider 040029, we are correcting the average hourly wage FY 2014, and the average hourly wage (3 Years). We also are making a correction to the FY 2014 wage index of provider 330386 because we inadvertently did not treat provider 330386 as being redesignated under section 1886(d)(8)(B) of the Act to CBSA 39100. By treating provider 330386 as being redesignated under section 1886(d)(8)(B) of the Act to CBSA 39100, the reclassified wage index of CBSA 39100 is changing as well. Since provider 330224 is reclassifying into CBSA 39100, provider 330224's FY 2014 wage index is being corrected accordingly.

In Table 3A.—FY 2014 and 3-Year Average Hourly Wage for Acute Care Hospitals in Urban Areas by CBSA. We determined that we used incorrect wages and hours for provider 040029 located in CBSA 30780. Therefore, we are correcting the FY 2014 average hourly wage and the 3-year average hourly wage for CBSA 30780, Little Rock-North Little Rock-Conway, AR.

In Table 4A.—Wage Index and Capital Geographic Adjustment Factor (GAF) for Urban Areas by CBSA and by State—FY 2014. We determined that we used incorrect wages and hours for provider 040029 located in CBSA 30780. Therefore, for CBSA 30780, Little Rock-North Little Rock-Conway, AR, we are correcting the data in the columns titled “Wage Index” and “GAF.”

In Table 4C.—Wage Index and Capital Geographic Adjustment Factor (GAF) For Hospitals That Are Reclassified by CBSA and by State—FY 2014. We determined that we used incorrect wages and hours for provider 040029 located in CBSA 30780. Therefore, for CBSA 30780, Little Rock-North Little Rock-Conway, AR, we are correcting the data in the columns titled “Wage Index” and “GAF.” We are also correcting the data in the columns titled “Wage Index” and “GAF” for CBSA 39100, Poughkeepsie-Newburgh-Middletown, NY, because we inadvertently did not treat provider 330386 as being redesignated under section 1886(d)(8)(B) of the Act to CBSA 39100, and therefore, we inadvertently excluded the data of provider 330386 from the calculation of the wage index and GAF for CBSA 39100.

In Table 4J.—Out-Migration Adjustment for Acute Care Hospitals—FY 2014. First, the column titled “Reclassified for FY 2013” is being corrected to read “Reclassified for FY 2014”. Second, we determined that we used incorrect wages and hours for provider 040029 located in CBSA 30780. As a result, we are adjusting the wage index for CBSA 30780, which, in turn, changes the out-migration adjustment of certain providers located in counties that are receiving an out-migration adjustment based on commuting into a county located within CBSA 30780. Specifically, we are correcting the value in the column titled “Out-Migration Adjustment” of providers 040014, 040071, and 040076.

Third, we inadvertently did not treat provider 330386 as being redesignated under section 1886(d)(8)(B) of the Act to CBSA 39100. Because we had not treated provider 330386 as being redesignated under section 1886(d)(8)(B) of the Act, we had listed provider 330386 in Table 4J as receiving the out-migration adjustment. However, since a hospital that is redesignated under section 1886(d)(8)(B) of the Act cannot simultaneously receive the out-migration adjustment, we are correcting Table 4J for provider 330386 by placing an asterisk in the column titled “Reclassified for FY 2014” (previously incorrectly titled “Reclassified for FY 2013”), indicating that this provider is not receiving the out-migration adjustment.

In Table 9A.—Hospital Reclassifications and Redesignations—FY 2014. We inadvertently did not treat provider 330386 as being redesignated from rural to urban under section 1886(d)(8)(B) of the Act. We are correcting Table 9A to include provider 330386 as being redesignated from the geographic CBSA of 33 to the reclassified CBSA of 39100, and indicating LUGAR in the column titled “LUGAR”.

In Table 15.—FY 2014 Readmissions Adjustment Factors, we are correcting a technical error in the calculation of the readmissions adjustment factors. For some hospitals, we inadvertently included high cost outlier payments in determining the base operating DRG payment amounts in the calculation of aggregate payments for excess readmissions and aggregate payments for all discharges that were used to calculate the readmissions adjustment factors published for the FY 2014 IPPS/LTCH final rule. As specified in the definitions in § 412.152, the base operating DRG payment amount does not include any additional payments for high cost outliers under subpart F of 42 CFR part 412. The technical correction to the determination of the base operating DRG payment amounts changes the readmissions payment adjustment factor for some hospitals in Table 15 by a small amount.

In Table 16A.—Updated Proxy Hospital Inpatient Value-Based Purchasing (VBP) Program Adjustment Factors for FY 2014. Due to a technical error in including high cost outlier payments for some hospitals in the proxy Hospital VBP Program adjustment factors calculations, we are correcting the proxy Hospital VBP Program adjustment factors for all hospitals listed in the table.

3. Errors in and Corrections to a LTCH PPS Table

We are also correcting the errors in the following LTCH PPS table that is listed on page 51002 of the FY 2014 IPPS/LTCH PPS final rule and that available on the Internet on the CMS Web site at http://www.cms.gov/Medicare/Medicare-Fee-for-Service-Payment/LongTermCare HospitalPPS/index.html.

Table 12A.—LTCH PPS Wage Index for Urban Areas for Discharges Occurring from October 1, 2013 through September 30, 2014. Due to a technical error found in the data of a provider in CBSA 30780, we are correcting the LTCH PPS wage index value for that CBSA.

III. Waiver of Proposed Rulemaking

We ordinarily publish a notice of proposed rulemaking in the Federal Register to provide a period for public comment before the provisions of a rule take effect in accordance with section 553(b) of the Administrative Procedure Act (APA) (5 U.S.C. 553(b)). However, we can waive this notice and comment procedure if the Secretary finds, for good cause, that the notice and comment process is impracticable, unnecessary, or contrary to the public interest, and incorporates a statement of the finding and the reasons therefore in the notice.

Section 553(d) of the APA ordinarily requires a 30-day delay in effective date of final rules after the date of their publication in the Federal Register. This 30-day delay in effective date can be waived, however, if an agency finds for good cause that the delay is impracticable, unnecessary, or contrary to the public interest, and the agency incorporates a statement of the findings and its reasons in the rule issued.

In our view, this correcting document does not constitute a rule that would be subject to the APA notice and comment or delayed effective date requirements. This correcting document corrects technical and typographical errors in the preamble and tables posted on the CMS Web site but does not make substantive changes to the policies or payment methodologies that were adopted in the final rule. As a result, this correcting document is intended to ensure that the preamble and tables posted on the CMS Web site accurately reflect the policies adopted in that final rule.

In addition, even if this were a rule to which the notice and comment and delayed effective date requirements applied, we find that there is good cause to waive such requirements. Undertaking further notice and comment procedures to incorporate the corrections in this document into the final rule or delaying the effective date would be contrary to the public interest because it is in the public's interest for providers to receive appropriate payments in as timely a manner as possible. Furthermore, such procedures would be unnecessary, as we are not altering the policies that were already subject to comment and finalized in our final rule. Therefore, we believe we have good cause to waive the notice and comment and effective date requirements.

Correction of Errors

In FR Doc. 2013-18956 of August 19, 2013 (78 FR 50496), make the following corrections:

A. Corrections of Errors in the Preamble

1. On page 50546, first column, second full paragraph, lines 17 and 18, the date, “October 1, 2014” is corrected to read “October 1, 2013.”

2. On page 50591, third column, last full paragraph, line 15, the figure “196” is corrected to read “169”.

3. On page 50630, third column, last paragraph,

a. Line 12, the figure “$12.772” is corrected to read “$12.775”.

b. Line 26, the figure “$3.193” is corrected to read “$3.194”.

4. On page 50631, first column, first paragraph, line 3, the figure “$9.579” is corrected to read “$9.581”.

5. On page 50634, first column, second full paragraph,

a. Line 9, the figure “$9.033” is corrected to read “$9.035”.

b. Line 10, the figure “9.579” is corrected to read “$9.581”.

6. On page 50641, third column, second full paragraph,

a. Line 12, the figure “2,695” is corrected to read “2687”.

b. Line 17, the figure “2,437” is corrected to read “2430”.

7. On page 50642, first column, first paragraph,

a. Line 2,

(1) The figure “2,437” is corrected to read “2,430”.

(2) The figure “72” is corrected to read “71”.

b. Line 7, the figure “2,437” is corrected to read “2430”.

8. On page 50678, top two-thirds of the page, second column, partial paragraph, line 30, the figure “1.8363321306” is corrected to read “1.8363054116.”

9. On page 50772, bottom third of the page, second column, third paragraph, lines 9 through 11, the phrase “applied to discharges occurring on or after October 1, 2013.” is corrected to read “applied for cost reporting periods beginning on or after October 1, 2013.”

10. On page 50854, first column,

a. First full paragraph, last two lines, the phrase “testing and development” is corrected to read “measure testing and development”.

b. Second full paragraph,

(1) Line 8, the phrase “that are fully” is corrected to read “that are either fully”.

(2) Last line through the second column first partial paragraph line 1, the phrase “why a particular measure is high priority” is corrected to read “why particular measures are high priority”.

11. On page 50855,

a. First column, second full paragraph, lines 31 through 33, the phrase “when LTCHs are required to submit data on the new measures we included in the proposed rule.” is corrected to read “LTCHs are required to submit data on the new measures.”

b. Second column, first partial paragraph, line 9, the phrase “we refer readers to that final rule” is corrected to read “we refer readers to the FY 2013 IPPS/LTCH PPS final rule”.

c. Third column,

(1) First partial paragraph, lines 7 and 8, the phrase “More specifically, this commenter” is corrected to read “More specifically, these commenters”.

(2) Last paragraph, line 6, the phrase “compliance for October 1, 2012” is corrected to read “compliance for the October 1, 2012”.

12. On page 50856,

a. Upper third of the page, first column, second partial paragraph, line 4, the phrase “that it will use” is corrected to read “that we will use”.

b. Lower two-thirds of the page, third column, last paragraph, lines 13 and 14, the phrase “an healthcare-associated infection (HAI)” is corrected to read “a healthcare-associated infection (HAI)”.

13. On page 50858, lower two-thirds of the page, second column, last paragraph, line 3, the phrase “NQF #0680, Percentage” is corrected to read “NQF #0680, Percent”.

14. On pages 50859,

a. Upper third of the page, in the table, PROPOSED TIMELINE FOR SUBMISSION OF LTCHQR PROGRAM QUALITY DATA FOR THE FY 2016 AND FY 2017 PAYMENT DETERMINATIONS: NQF #0680 PERCENTAGE OF RESIDENTS OR PATIENTS WHO WERE ASSESSED AND APPROPRIATELY GIVEN THE SEASONAL INFLUENZA VACCINE [Short Stay], in the table heading, line 2, the phrase “PERCENTAGE OF RESIDENTS” is corrected to read “PERCENT OF RESIDENTS”.

b. Lower two-thirds of the page, second column,

(1) Third full paragraph, line 18, the phrase “calculation of the measure” is corrected to read “calculation and public reporting of the measure”.

(2) Last paragraph, line 2, the phrase “CMS align the data” is corrected to read “CMS update the data”.

15. On page 50860,

a. First column, first partial paragraph, line 18, the phrase “LTCHs to show if” is corrected to read “LTCHs to report whether”.

b. Second column, second paragraph, line 19, the parenthetical phrase “(short-stay)” is corrected to read “(Short-Stay)”.

c. Third column,

(1) Third full paragraph,

(a) Lines 13 and 14, the parenthetical phrase “(short-stay)” is corrected to read “(Short-Stay)”.

(b) Line 17, the parenthetical phrase “(short-stay)” is corrected to read “(Short-Stay)”.

(c) Line 26, the phrase “measure and endorsement by” is corrected to read “measure and endorsed by”.

(2) Last paragraph, lines 5 and 6, the parenthetical phrase “(short-stay)” is corrected to read “(Short-Stay)”.

16. On page 50861, upper half of the page,

a. Third column, partial paragraph, line 5, the parenthetical phrase “(short-stay)” is corrected to read “(Short-Stay)”.

b. In the table, FINAL TIMELINE FOR SUBMISSION OF LTCHQR PROGRAM QUALITY DATA FOR THE FY 2016 AND FY 2017 PAYMENT DETERMINATIONS: NQF #0680 PERCENTAGE OF RESIDENTS OR PATIENTS WHO WERE ASSESSED AND APPROPRIATELY GIVEN THE SEASONAL INFLUENZA VACCINE [Short Stay], in the table heading, line 2, the phrase “PERCENTAGE OF RESIDENTS” is corrected to read “PERCENT OF RESIDENTS”.

17. On page 50862,

a. First column, third full paragraph, lines 5 and 6, the phrase, “setting and NQF endorsement for LTCH setting” is corrected to read “setting and to obtain NQF endorsement for the LTCH setting”.

b. Second column,

(1) First full paragraph, lines 23 and 24, the phrase “SNF/nursing home patient population” is corrected to read “SNF/nursing home short-stay resident population”.

(2) Second full paragraph, line 4, the phrase “ulcers and is committed” is corrected to read “ulcers, and we are committed”.

18. On page 50864, second column,

a. First full paragraph, line 5, the phrase “commenters urge” is corrected to read “commenters urged”.

b. Third full paragraph, line 1, the phrase “noted it is” is corrected to read “noted that is it”.

19. On page 50866, second column, first partial paragraph, line 19, the phrase “and measuring infection rates is” is corrected to read “and measuring infection rates are”.

20. On page 50867,

a. First column, second full paragraph, line 11, the phrase “LTCHQR measure scores” is corrected to read “LTCHQR Program measures scores”.

b. Third column, first partial paragraph, line 9, the phrase “claims-based MRSA” is corrected to read “claims-based CDI”.

21. On page 50869, third column, first full paragraph, lines 22 and 23, the phrase “discharge, or the date of patient death” is corrected to read “discharge or until the date of the patient's death”.

22. On page 50870, first full paragraph, lines 5 and 6, the phrase “discharge date, or date of death” is corrected to read “discharge or until the date of the patient's death”.

23. On page 50871,

a. Second column, last paragraph, line 6, the phrase “but note that but note that” is corrected to read “but note that”.

b. Third column, third full paragraph, line 11, the phrase “are typically not” is corrected to read “is typically not”.

24. On page 50872,

a. First column, last paragraph, lines 10 and 11, the phrase “LTCH harmonizes” is corrected to read “LTCH readmission measure harmonizes”.

b. Second column, third full paragraph,

(1) Line 1, the phrase “Some comments” is corrected to read “Some commenters”.

(2) Line 5, the phrase “They suggest” is corrected to read “They suggested”.

25. On page 50873,

a. Second column,

(1) First full paragraph, line 25, the phrase “readmissions are considered” is corrected to read “readmissions were considered”.

(2) Last paragraph, lines 1 and 2, the phrase “The two years of data for each report period” is corrected to read “The 2 years of data for each reporting period”.

b. Third column, first full paragraph, line 1, the phrase “Some commenters are” is corrected to read “Some commenters were”.

26. On page 50875, second column, first full paragraph,

a. Line 1, the phrase “We note that,” is corrected to read “We noted that,”.

b. Line 14, the phrase “LTCH setting” is corrected to read “the LTCH setting”.

27. On page 50876, second column,

a. First partial paragraph, line 1, the phrase “but it concluded” is corrected to read “it concluded”.

b. Last paragraph, line 14 through the third column first partial paragraph, the sentences “In this instance, for example, an application of the Percent of Residents Experiencing One or More Falls with Major Injury (Long Stay) measure (NQF #0674) is NQF-endorsed for the LTCH setting, an indication that it is appropriate for LTCH patients. In addition, this measure is appropriate in light of the fact that fall-related injury is an important patient safety concern for LTCH patients. For the reasons listed above, this measure is appropriate for LTCH patients.” are corrected to read “In light of the TEP feedback and the fact that fall-related injury is an important patient safety concern for patients in health care settings, including LTCHs, this measure is appropriate for the LTCHQR Program.”

28. On page 50879,

a. First column, fourth full paragraph (section heading), line 5, the parenthetical phrase “(Short Stay)” is corrected to read “(Short-Stay)”.

b. Second column,

(1) First partial paragraph, line 1, the parenthetical phrase “(Short Stay)” is corrected to read “(Short-Stay)”.

(2) First full paragraph,

(a) Line 8, the page reference “277322” is corrected to read “27732”.

(b) Lines 16 and 17, the phrase “Data collection and submission of this measure will continue” is corrected to read “We proposed in the FY 2014 IPPS/LTCH PPS proposed rule (78 FR 27722 and 27723) that data collection and submission for this measure would continue”.

29. On page 50880, upper half of the page, the table, TIMELINE FOR SUBMISSION OF LTCHQR PROGRAM QUALITY DATA FOR THE FY 2016 PAYMENT DETERMINATION: NQF #0680 PERCENTAGE OF RESIDENTS OR PATIENTS WHO WERE ASSESSED AND APPROPRIATELY GIVEN THE SEASONAL INFLUENZA VACCINE (SHORT STAY), in the table heading,

a. Line 2, the phrase “PERCENTAGE OF RESIDENTS” is corrected to read “PERCENT OF RESIDENTS”.

b. Line 3, the parenthetical phrase “(SHORT STAY)” is corrected to read “(SHORT-STAY)”.

30. On page 50881, lower two-thirds of the page, the table, TIMELINE FOR SUBMISSION OF LTCHQR PROGRAM QUALITY DATA FOR THE FY 2017 PAYMENT DETERMINATION: NQF #0680 PERCENTAGE OF RESIDENTS OR PATIENTS WHO WERE ASSESSED AND APPROPRIATELY GIVEN THE SEASONAL INFLUENZA VACCINE (SHORT STAY), in the table heading,

a. Line 2, the phrase “PERCENTAGE OF RESIDENTS” is corrected to read “PERCENT OF RESIDENTS”.

b. Line 3, the parenthetical phrase “(SHORT STAY)” is corrected to read “(SHORT-STAY)”.

31. On page 50882, lower two-thirds of the page,

a. In the table, TIMELINE FOR SUBMISSION OF LTCHQR PROGRAM QUALITY DATA FOR THE FY 2018 PAYMENT DETERMINATION FOR ALL MEASURES EXCEPT #0431 INFLUENZA VACCINATION COVERAGE AMONG HEALTH CARE PERSONNEL AND #0680 PERCENTAGE OF RESIDENTS OR PATIENTS WHO WERE ASSESSED AND APPROPRIATELY GIVEN THE SEASONAL INFLUENZA VACCINE (SHORT STAY), in the table heading,

(1) Line 2, the phrase “EXCEPT #0431” is corrected to read “EXCEPT NQF #0431”.

(2) Lines 1 and 2, the phrase “# 0680 PERCENTAGE OF RESIDENTS” is corrected to read “NQF # 0680 PERCENT OF RESIDENTS”.

(3) Line 3, the parenthetical phrase “(SHORT STAY)” is corrected to read “(SHORT-STAY)”.

b. In the table TIMELINE FOR SUBMISSION OF LTCHQR PROGRAM QUALITY DATA FOR THE FY 2018 PAYMENT DETERMINATION: #0680 PERCENTAGE OF RESIDENTS OR PATIENTS WHO WERE ASSESSED AND APPROPRIATELY GIVEN THE SEASONAL INFLUENZA VACCINE (SHORT STAY), in the table heading,

(1) Lines 2 and 3, the phrase “# 0680 PERCENTAGE OF RESIDENTS” is corrected to read “NQF # 0680 PERCENT OF RESIDENTS”.

(2) Line 4, the parenthetical phrase “(SHORT STAY)” is corrected to read “(SHORT-STAY)”.

32. On page 50887, second column, first full paragraph, line 2, the phrase “two-percentage point reduction” is corrected to read “2.0 percentage point reduction”.

(Catalog of Federal Domestic Assistance Program No. 93.778, Medical Assistance Program)

(Catalog of Federal Domestic Assistance Program No. 93.773, Medicare—Hospital Insurance; and Program No. 93.774, Medicare—Supplementary Medical Insurance Program)

Dated: September 30, 2013.
Oliver Potts,
Deputy Executive Secretary to the Department, Department of Health and Human Services.

[FR Doc. 2013-24211 Filed 9-30-13; 4:15 pm]

BILLING CODE 4120-01-P